ENVIRONMENTAL PROTECTION AGENCY

[Docket ID Number OECA-2004-0024, FRL-7668-8]

Agency Information Collection Activities: Request for Comments on Source Compliance and State Action Reporting Proposed Information Collection Request (ICR)

AGENCY: Environmental Protection Agency (EPA).

ACTION: Notice.

SUMMARY: In compliance with the Paperwork Reduction Act (44 U.S.C. 3501 et seq.), this document announces that EPA is planning to submit the following existing, approved, continuing Information Collection Requests (ICR) to the Office of Management and Budget (OMB) for the purpose of renewing the ICR. Before submitting the ICR to OMB for review and approval, EPA is soliciting comments on specific aspects of the information collection as described at the beginning of SUPPLEMENTARY INFORMATION.

DATES: Comments must be submitted on or before August 2, 2004.

ADDRESSES: Comments may be submitted electronically, by mail, or through hand delivery/courier service. Follow the detailed instructions as provided under SUPPLEMENTARY INFORMATION, section I.B.

FOR FURTHER INFORMATION CONTACT: The contact for this ICR is listed under SUPPLEMENTARY INFORMATION, section II. A.

SUPPLEMENTARY INFORMATION:

I. General Information

A. How Can I Get Copies of the ICR Supporting Statement and Other Related Information?

1. Docket. EPA has established official public dockets for this ICR as follows: Source Compliance and State Action Reporting Docket ID Number OECA-2004-0024, the official public docket for the ICR consists of the documents specifically referenced in the ICR, any public comments received, and other information related to the ICR. Although a part of the official docket, the public docket does not include Confidential Business Information (CBI) or other information whose disclosure is restricted by statute. The official public docket for the ICR is the collection of materials that is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center Docket is (202) 564-1927.

2. Electronic Access. You may access this document electronically through the EPA Internet under the Federal Register listings at http://www.epa.gov/fedrgstr/. You may use EPA Dockets at http://www.epa.gov/edocket/ to submit or view public comments, access the index listing of the contents of the official public docket, and to access those documents in the public docket that are available electronically. After entering the system, select “search,” then key in the docket identification number.

Certain types of information will not be placed in the EPA Dockets. Information claimed as CBI, and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in section I.A.1. EPA intends to work towards providing electronic access to all of the publicly available docket materials through EPA's electronic public docket.

For public commenters, it is important to note that EPA's policy on public comment (whether submitted electronically or in paper) will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

For additional information about EPA's electronic public docket, visit EPA Dockets online or see 67 FR 38102, May 31, 2002.

B. How and to Whom Do I Submit Comments?

You may submit comments electronically, by mail, or through hand delivery/courier service. To ensure proper receipt by EPA, identify the appropriate docket identification number in the subject line on the first page of your comment. Please ensure that your comments are submitted within the specified comment period. Comments received after the close of the comment period will be marked “late.” EPA is not required to consider late comments in formulating a final decision. If you wish to submit CBI or information that is otherwise protected by statute, please follow the instructions in section I.C. Do not use EPA Dockets or e-mail to submit CBI or information protected by statute.

1. Electronically. If you submit an electronic comment as prescribed below, EPA recommends that you include your name, mailing address, and an e-mail address or other contact information in the body of your comment. Also include this contact information on the outside of any disk or CD-ROM you submit, and in any cover letter accompanying the disk or CD-ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket, and follow the online instructions for submitting comments. To access EPA's electronic public docket from the EPA Internet Home Page, select “Information Sources,” “Dockets,” and “EPA Dockets.” After entering the system, select “search,” and then key in Docket ID Number. The system is an “anonymous access” system, which means EPA will not know your identity, e-mail address, or other contact information unless you provide it in the body of your comment.

ii. E-mail. Comments may be sent by electronic mail (e-mail) to docket.oeca@epa.gov. Provide the Docket ID Number when submitting your comments. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

iii. Disk or CD-ROM. You may submit comments on a disk or CD-ROM that you mail to the mailing address identified in section I.A.1. These electronic submissions will be accepted in WordPerfect or ASCII file format. Avoid the use of special characters and any form of encryption.

2. By Mail. Send your comments to the EPA Docket Center using the address provided in section I.A.1.; Attention: Docket ID Number OECA-2004-0024.

3. By Hand Delivery or Courier Service. Deliver your comments to the address provided in section I.A.1; Attention: Docket ID Number (provide number). Such deliveries are only accepted during the Docket's normal hours of operation as identified in section I.A.1.

C. How Should I Submit CBI to the Agency?

Do not submit information that you consider to be CBI electronically through EPA's electronic public docket or by e-mail. Send or deliver information identified as CBI only to the contact individuals listed in section II.C.; Attention: Docket ID Number (provide number). You may claim information that you submit to EPA as CBI by marking any part or all of that information as CBI. If you submit CBI on disk or CD-ROM, mark the outside of the disk or CD-ROM as CBI, and then identify within the disk or CD-ROM the specific information that is CBI. Information so marked will not be disclosed except in accordance with procedures set forth in 40 CFR part 2.

In addition to one complete version of the comment that includes any information claimed as CBI, a copy of the comment that does not contain the information claimed as CBI must be submitted for inclusion in the public docket and EPA's electronic public docket. If you submit a copy that does not contain CBI on disk or CD-ROM, mark the outside of the disk or CD-ROM clearly that it does not contain CBI. Information not marked as CBI will be included in the public docket and EPA's electronic public docket without prior notice. If you have any questions about CBI or the procedures for claiming CBI, please consult the person identified under the section titled FOR FURTHER INFORMATION CONTACT.

D. What Should I Consider as I Prepare My Comments for EPA?

You may find the following suggestions helpful for preparing your comments:

(1) Explain your views as clearly as possible.

(2) Describe any assumptions that you used.

(3) Provide any technical information and/or data you used that support your views.

(4) If you estimate potential burden, costs, or benefits explain how you arrived at your estimate.

(5) Provide specific examples to illustrate your concerns.

(6) Offer alternatives.

(7) Make sure to submit your comments by the comment period deadline identified.

(8) To ensure proper receipt by EPA, identify the appropriate docket identification number in the subject line on the first page of your response. It would also be helpful if you provided the name, date, and Federal Register citation related to your comments.

E. In What Information Is EPA Particularly Interested?

Pursuant to section 3506(c)(2)(A) of the PRA, EPA specifically solicits comments and information to enable it to:

(1) Evaluate whether the proposed collections of information are necessary for the proper performance of the functions of the Agency, the regulated community and public, including whether the information will have practical utility.

(2) Evaluate the accuracy of the Agency's estimates of the burdens of the proposed collections of information.

(3) Enhance the quality, utility, and clarity of the information to be collected.

(4) Minimize the burden of the collections of information on those who are to respond, including through the use of appropriate automated or electronic collection technologies or other forms of information technology, e.g., permitting electronic submission of responses.

Burden means the total time, effort, or financial resources expended by state/local/tribal agencies to generate, maintain, retain, or disclose or provide information to EPA as required for oversight of the air compliance and enforcement program. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

II. ICR To Be Renewed

In compliance with the Paperwork Reduction Act (44 U.S.C. 3501 et seq.), this notice announces that EPA is planning to submit the continuing Information Collection Request (ICR) for Source Compliance and State Action Reporting; Docket ID Number OECA-2004-0024; EPA Preliminary ICR Number 0107.08; OMB Control Number 2060-0096; expiration date January 31, 2005, to the Office of Management and Budget (OMB).

An Agency may not conduct or sponsor, and a person is not required to respond to, a collection of information unless it displays a currently valid OMB control number. The OMB control numbers for EPA's standards are displayed in 40 CFR part 9.

The underlying information collection requirements for Source Compliance and State Action Reporting, as required by 40 CFR part 51, subpart Q, are mandatory. In the absence of such information collection requirements, enforcement personnel would be unable to determine whether the standards are being met on a continuous basis, as required by the Clean Air Act.

The Agency computed the burden for the recordkeeping and reporting requirements applicable to the affected entities for the currently approved Information Collection Request listed in this notice. Where applicable, the Agency identified specific tasks and made assumptions, while being consistent with the concept of the Paperwork Reduction Act.

A. Contact Individual for ICR

Source Compliance and State Action Reporting: Dan Holic of the Data Systems and Information Management Branch at (202) 564-7117, or via e-mail at holic.daniel@epa.gov; EPA ICR Number 0107.08; OMB Number 2060-0096; expiration date January 31, 2005.

B. Information for ICR

Source Compliance and State Action Reporting; Docket ID Number OECA-2004-0024; EPA Preliminary ICR Number 0107.08; OMB Control Number 2060-0096; expiration date January 31, 2005.

Affected Entities: Entities potentially affected by this action are those State, District, Commonwealth and territorial governments that make air compliance information available to EPA on a routine basis via input to the Air Facility System (AFS), previously known as the Aerometric Information Retrieval System Facility Subsystem (AFS).

Abstract: Source Compliance and State Action Reporting, in accordance with the requirements promulgated at 40 CFR part 51, subpart Q, is an activity whereby State, District, Commonwealth and territorial governments make air compliance information available to EPA on a routine basis via input to the Air Facility System (AFS). The information provided to EPA includes compliance determinations and compliance activities. EPA uses this information to assess progress toward meeting emission requirements developed under the authority of the Clean Air Act to protect and maintain the atmospheric environment and the public health. The ten EPA Regional Offices access the data in AFS to assist them in the management and oversight of State/Local/Tribal air pollution control programs. Some State agencies use AFS to manage their air pollutant control program. The regulated community and general public also access these data through an EPA Web site entitled Enforcement and Compliance Online (ECHO) (www.epa.gov/echo). This collection activity is authorized and required in the following subsections of regulations implementing the Clean Air Act under “Subpart—Q Reports” in 40 CFR part 51: §§ 51.323(c)(1), 51.323(c)(2), 51.324(a) and (b), and 51.327.

In addition to renewal, this ICR will be updated to take into account the reporting needs associated with several Agency policies and rules. The potential new reporting requirements include:

A Subpart Identifier in the Air Program record for Maximum Achievable Control Technology (MACT), New Source Performance Standards (NSPS) and the National Emission Standards for Hazardous Air Pollutants (NESHAP). Approximately 90 MACT rules have been promulgated since 1990 (40 CFR part 63) and four additional rules are to be promulgated in 2004. Compliance dates are in place for approximately 43 MACT Standards. Fifty-five additional area source standards are to be promulgated (112k—Urban Air Toxics Strategy) between 2005 and 2010. This significant increase of Clean Air Act regulations has underscored the need for better targeting of affected facilities within the Air Compliance/Enforcement Program. Knowing the specific Subpart to which a facility is subject will significantly enhance our ability to target limited resources on the most environmentally significant sources. Subpart identification also will help the EPA and state/local agencies to establish compliance rates. In order to reduce immediate implementation impact, it is recommended that when a Full Compliance Evaluation is conducted, an update of the applicable air program Subparts in AFS should be completed. This will streamline data entry for State/Local/Tribal agencies not previously reporting subpart information in AFS. Subpart Identifiers will also aid in the targeting of existing NSPS and NESHAP sources.

Reporting of Partial Compliance Evaluations (PCEs) and the addition of the pollutant value to Stack Test actions (Action Pollutant Record—states to report the action multiple times, e.g., once for each pollutant): Due to the concerns expressed by State and local air pollution control agencies regarding additional reporting burden, the reporting of PCEs was made optional when the revised CMS policy was initially implemented in 2001. As we have passed the first two year cycle in implementing the revised policy, we now need to revisit the issue of reporting such information into the national data system. The Agency continues to believe that the reporting of PCEs and the results of stack testing on a pollutant level is essential to adequately portray the range of compliance monitoring activities conducted by States and locals; manage a national program; improve data accuracy providing the public with a more accurate and complete assessment of compliance status. Analyses conducted for the current ICR estimated the overall burden of reporting PCEs to be 70,000 burden hours. However, based on the level of voluntarily reported PCEs (during fiscal year 2003 thirty-nine (39) state agencies reported PCEs to AFS) and anecdotal information from the Regions and States, we believe that this number is inaccurate and that the reporting of PCEs would not impose such a significant burden on States. Reporting the results of stack tests at the pollutant level addresses a programmatic deficiency (identified by the EPA Inspector General in a report on stack testing—“Report of EPA's Oversight of State Stack Testing Program”—(Report number 2000-P-00019) dated September 11, 2000, (http://epa.gov/oig/reports/2000/stack.pdf)) by removing the inconsistent reporting of stack tests. Without consistent reporting, the information is of limited utility in evaluating the level of activity; obtaining information on the ability of sources to comply with regulations; and tracking compliance status for specific pollutants that contribute to non-attainment designation. The benefits of pollutant level reporting of stack tests outweigh any possible reporting burden. At a minimum, $5,000 and 4 days are expended by sources required to conduct a stack test. Spending the approximately 2-3 minutes to enter the data from the stack test and another minute for each additional pollutant tested at the same facility captures important information and prevents the loss of data that was obtained from an expensive effort. Consistent with the need for subpart information discussed under the Subpart Identifier requirement, this information would be provided for all stack tests.

Permit Program Data Elements (Date Permit Issued, Permit Number, Category): Permit Issuance data is critical for implementing and managing the Title V program. Knowing when a facility has been issued a Title V permit is essential for determining the universe of facilities subject to Title V requirements. Without the reporting of permit data, not all State/local/tribal activity is captured, hindering the ability to provide full recognition of the regulated universe.

Identification of High Priority Violator (HPV) “Violation Discovered” date/activity: The HPV policy (located at URL: http://www.epa.gov/Compliance/resources/policies/civil/caa/stationary/hpvmanualrevised.pdf) sets a 30-90 day window for HPV determination, however, there is not an existing dataflow which documents the “violation Determined” or “first occurrence” date that initiates the HPV timeline process and allows EPA to measure whether this policy is being followed. Incorporating this milestone action is responsive to data requests made internally and externally regarding the need to better explain the results of inspections/evaluations. Though violations meeting the HPV requirements can be determined by methods other than inspection or evaluation, the link between compliance activities and HPV is critical. A defined list of current action types will be given this “Violation Discovery” attribute so as to provide consistent analysis. A simple process will be defined to handle multiple actions (e.g., Full Compliance Evaluations (FCE), Partial Compliance Evaluations (PCE), and other routine compliance monitoring activities) since the first action may not necessarily be the basis for Day Zero.

HPV Violation Type Code and Violating Pollutants (VTP1: General, Matrix and Discretionary Criteria) and (VPL1: Violating Pollutants): As a result of OIG investigations (September 25, 1998 OIG report entitled “Consolidated Report on OECA's Oversight of Regional and State Air Enforcement Programs recommendations 1, 4, 5, 6 and 7” (http://www.epa.gov/oig/reports/1998/8100244e.htm)) and Government Performance and Results Act (GPRA) requirements (GPRA Goal 5—Compliance and Environmental Stewardship; Objective 1: Improve Compliance), the Agency has found a need to evaluate and measure priority enforcement in terms of ‘environmental harm’, pollutant loadings deterred through enforcement, etc. In addition, the public, regulated facilities, and environmental advocates have formally requested this type of information. Both the Clean Water Act (CWA) and RCRA programs and their databases (Permit Compliance System (PCS) and RCRAInfo) have sophisticated reporting and tracking of either pollutants violated or violating types/definitions or both. Clean Air Act HPV tracking has only two methods of tracking this information and neither HPV Violation Type Codes or Violating Pollutants are required to be reported as a Minimum Data Requirement (MDR). There are several advantages to these data elements. Not only do they provide insight to potential environmental harm, but they can provide details about the extent of the violations (e.g., percentage of excess emissions above legal limit). These data elements can also provide a clear connection to the HPV Policy and, therefore, make it easier to evaluate implementation. Both of these data elements are entered on the AFS ‘Day Zero’ record/menu screen and would be entered at the same time as the HPV Day Zero; thereby, not requiring a new update session in AFS. Consistent with the need for Subpart information discussed under the first potential new data requirement, this information would be provided for all new HPV violations.

Time Standard for State/Local Reporting (from 90 day to 30 day standard): With the public release of AFS data, and more timely reporting requirements placed upon EPA through the Government Performance and Results Act (GPRA), real time data is demanded. Moving from a 90 to a 30 day minimum reporting frequency is an attempt to move toward maintaining real time data in AFS, and meeting public demand. Allowing for 90 days to report is inconsistent with the greater emphasis the Agency is placing on timely input of data. Having data lag for 90 days negatively impacts the ability to conduct on-going analysis. In addition to not meeting public demand, this lag in data reporting can also cause the public to be misled because inaccurate (or at least old, out of date) data ends up appearing in public on web sites such as the Enforcement Compliance History Online (ECHO) system which can lead to inaccurate conclusions being made regarding State compliance monitoring and enforcement program performance.

Burden Statement: In the previously approved ICR, the average annual burden to covered entities to meet the recordkeeping and reporting requirements was estimated at 85,496 person-hours for the three years following approval of that ICR. The total annualized cost burden was estimated as $2,669,186. This is based on an estimated 89 respondents and a frequency of at least four times per year, with many reporting more frequently. The average annual burden for reporting per source per response for reporting activities is dependent upon the size of the State. A State with a small universe of federally reportable sources (150 major sources or less) spends an average 85 hours per quarter; a medium-sized universe of sources (having between 151 and 499 major sources) spends an average 337 hours per quarter; and a State with a large universe of sources (having more than 500 major sources) spends an average 586 hours per quarter. In order to estimate the burden that would be added by the proposed new MDR's, EPA will take all comments into consideration. In addition, a representative number state and local agencies will be contacted for their input.

Dated: May 24, 2004.
Michael M. Stahl,
Director, Office of Compliance.

[FR Doc. 04-12305 Filed 5-28-04; 8:45 am]

BILLING CODE 6560-50-P